DEPARTMENT OF JUSTICE

Notice of Lodging of Proposed Consent Decree Under the Clean Air Act

On August 31, 2023, the Department of Justice lodged a proposed Consent Decree with the United States District Court for the Southern District of Texas in the lawsuit entitled United States v. Tadano Limited, et al., Case No. 4:23-cv-03232.

The United States filed a Complaint, on behalf of the United States Environmental Protection Agency, against Tadano Limited and its subsidiaries Tadano America Corp., Tadano Faun GMBH, and Tadano Mantis Corp, alleging violations of sections 203(a) and 213(d) of the Clean Air Act, 42 U.S.C. 7522(a)(1) and 7547(d), and implementing regulations, by their importation, introduction into commerce, and sale of heavy nonroad construction equipment containing diesel engines that were not certified to model year engine emission standards. The Complaint also alleges related violations of reporting requirements and seeks civil penalties and appropriate injunctive relief.

Under the proposed Consent Decree, the Defendants will collectively pay a civil penalty of $40 million and will complete a project to mitigate harm caused by excess nitrogen oxide (NOx) and particulate matter (PM) emissions from the noncompliant engines.

The publication of this notice opens a period for public comment on the proposed Consent Decree. Comments should be addressed to the Assistant Attorney General, Environment and Natural Resources Division, and should refer to United States v. Tadano Limited, et al., Case No. 4:23-cv-03232, D.J. Ref. No. 90-5-2-1-12161. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Agreement and Order may be examined and downloaded at this Justice Department website: http://www.usdoj.gov/enrd/Consent_Decrees.html. We will provide a paper copy of the Agreement and Order upon written request and payment of reproduction costs. Please mail your request and payment to: Consent Decree Library, U.S. DOJ—ENRD, P.O. Box 7611, Washington, DC 20044-7611.

Please enclose a check or money order for $11.25 (25 cents per page reproduction cost) for the proposed Agreement and Order, payable to the United States Treasury.

Thomas Carroll,
Environmental Enforcement Section, Environment and Natural Resources Division.

[FR Doc. 2023-19251 Filed 9-6-23; 8:45 am]

BILLING CODE 4410-15-P